Title 3—

The President

Proclamation 10372 of April 21, 2022

Earth Day, 2022

By the President of the United States of America

A Proclamation

Fifty-two years ago, millions of people gathered across our country in a rally to protect our planet. This collective action gave birth to a new movement and spurred the creation of landmark environmental laws that protect the air we breathe and the water we drink. Today, we must recapture that spirit and, as I said in my Inaugural Address, heed a cry for survival that comes from the planet itself.

In their most recent report, the Intergovernmental Panel on Climate Change provided yet another round of evidence that climate change is no longer in the distant future—it is here. Last year, extreme weather and climate disasters cost our communities $145 billion and claimed hundreds of lives. In the summer of 2021 alone, nearly 1 out of every 3 Americans experienced a weather disaster. The climate crisis is upending lives across the country and around the world. Environmental injustices continue to exact a toll on the health of communities of color, low-income communities, and Tribal and Indigenous communities. A number of wildlife species in the United States and around the world are facing an extinction crisis unparalleled in human history. The environmental challenges of our time call for historic action, and we intend to meet the moment.

That is why my Administration has launched the most ambitious environmental and climate agenda in history. We have made the bold commitment to reduce greenhouse gas emissions in the United States by 50 to 52 percent by 2030, reach 100 percent carbon pollution-free electricity by 2035, and achieve net zero emissions economy-wide by no later than 2050. To work toward these goals, we have taken action across every sector of the economy, including setting the strongest-ever standards for greenhouse gas emissions from passenger vehicles, tackling super-pollutants like methane and hydrofluorocarbons, investing billions in the deployment of clean technologies, and launching the American offshore wind industry.

In addition, I was proud to start the “America the Beautiful” initiative, our first-ever voluntary national conservation goal to conserve 30 percent of America's lands and waters by 2030.

The Bipartisan Infrastructure Law is a once-in-a-generation opportunity to build on these actions and accelerate our Nation's ability to confront the environmental and climate challenges we face. It will allow us to remediate and reclaim abandoned mine lands and oil wells leaking methane while putting Americans to work in good paying jobs; invest in coastal wetlands and habitats that can protect infrastructure and homes during storms; replace lead pipes that plague underserved communities and remove dangerous chemicals from our drinking water; restore watersheds and rivers; create fish passage to protect iconic species, such as salmon; restore forests as carbon sinks; build resilience to climate impacts including droughts, heat, floods, and wildfires; and build a national network of electric vehicle charging stations to accelerate our transition to electric mobility.

As my Administration implements this agenda, we are following through on our commitment to ensuring that our investments advance equity and justice and reach communities across the country—including rural communities, communities of color, and low-income communities. We will be guided by the steadfast conviction of Earth Day founder Gaylord Nelson, my friend and former colleague, that “every person has the inalienable right to a decent environment,” including those who have long been shut out of decisions that directly affect their lives and who are most likely to bear the brunt of pollution and climate change.

The responsibility to confront the climate crisis is not solely on the United States. It requires leaders across the world committing to a clean energy future. On my first day in office, I fulfilled my promise to rejoin our Nation to the Paris Agreement to tackle the climate crisis at home and abroad.

For the future of our planet, for our health, and for our children and grandchildren, we must act now. Let us stand united in this effort to save our planet and, in the process, strengthen our economy and grow more connected to each other and the world we share.

NOW, THEREFORE, I, JOSEPH R. BIDEN JR., President of the United States of America, by virtue of the authority vested in me by the Constitution and the laws of the United States, do hereby proclaim April 22, 2022, as Earth Day. I encourage all Americans to participate in programs and activities that will deepen their understanding of environmental protection, the urgency of climate change, and the need to create a healthier, safer, more equitable future for all people.

IN WITNESS WHEREOF, I have hereunto set my hand this twenty-first day of April, in the year of our Lord two thousand twenty-two, and of the Independence of the United States of America the two hundred and forty-sixth.

[FR Doc. 2022-09012

Filed 4-25-22; 8:45 am]

Billing code 3395-F2-P